COMMODITY FUTURES TRADING COMMISSION

Notice of Meeting; Sunshine Act

Agency Holding the Meeting: Commodity Futures Trading Commission.

Federal Register Citation of Previous Announcement: 71 FR 30665.

Previously Announced time and Date of the Public Hearing: 10 a.m., Tuesday, June 27, 2005.

Changes in the Hearing: The time of the public hearing on the Issue of What constitutes a Board of Trade Located Outside of the United States Under Section 4(a) of the Commodity Exchange Act has been changed to 9 a.m.

Changes in the Contact Phone Number: The phone number of Duane Andresen previously read “(202) 418-5429” and should read “(202) 418-5492”.

FOR FURTHER INFORMATION CONTACT: Eileen A. Donovan, 202-418-5100.

Eileen A. Donovan,
Acting Secretary of the Commission.

[FR Doc. 06-5117 Filed 5-31-06; 3:29 pm]

BILLING CODE 6351-01-M